DEPARTMENT OF COMMERCE

International Trade Administration

[A-549-851]

Crystalline Silicon Photovoltaic Cells, Whether or Not Assembled Into Modules, From Thailand: Final Affirmative Determination of Sales at Less-Than-Fair-Value and Final Affirmative Determination of Critical Circumstances

AGENCY: Enforcement and Compliance, International Trade Administration, Department of Commerce.

SUMMARY: The U.S. Department of Commerce (Commerce) determines that imports of crystalline silicon photovoltaic cells, whether or not assembled into modules (solar cells), from Thailand are being, or are likely to be, sold in the United States at less-than-fair-value (LTFV) for the period of investigation (POI) is April 1, 2023, through March 31, 2024.

DATES: Applicable April 25, 2025.

FOR FURTHER INFORMATION CONTACT: Stephen Bailey or Joshua Jacobson, AD/CVD Operations, Office IV, Enforcement and Compliance, International Trade Administration, U.S. Department of Commerce, 1401 Constitution Avenue NW, Washington, DC 20230; telephone: (202) 482-0193 or (202) 482-0266, respectively.

SUPPLEMENTARY INFORMATION:

Background

On December 4, 2024, Commerce published the Preliminary Determination, in which we also postponed the final determination until April 18, 2025.¹ Commerce invited interested parties to comment on the Preliminary Determination. On March 24, 2024, Commerce issued a post-preliminary Particular Market Situation (PMS) Analysis Memorandum ² in which we found a PMS exists for certain of TTL's solar inputs (i.e., wafers and solar glass) due to Chinese dominance of the solar cell input market in Thailand, which likely contributes to a input cost distortion or decline in the price below what the market-determined price is for inputs.³ We invited interested parties to comment on the PMS Analysis Memorandum.⁴

¹ See Crystalline Silicon Photovoltaic Cells, Whether or Not Assembled Into Modules, From Thailand: Preliminary Affirmative Determination of Sales at Less-Than-Fair-Value, Affirmative Determination of Critical Circumstances, Postponement of Final Determination, and Extension of Provisional Measures, 89 FR 96214 (December 4, 2024) (Preliminary Determination), and accompanying Preliminary Decision Memorandum (PDM).

² See Memorandum, “Less-Than-Fair-Value Investigation of Crystalline Silicon Photovoltaic Cells, Whether or Not Assembled Into Modules, From Thailand: Post-Preliminary Analysis of the Particular Market Situation Allegation,” dated March 24, 2025 (PMS Analysis Memorandum).

³ Id. at 21.

⁴ See Memorandum, “Briefing Schedule for Case and Rebuttal Briefs: Particular Market Situation Analysis,” dated March 25, 2025.

A summary of the events that occurred since Commerce published the Preliminary Determination, as well as a full discussion of the issues raised by parties for this final determination, may be found in the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Issues and Decision Memorandum for the Final Affirmative Determination of Sales at Less Than Fair Value in the Investigation of Crystalline Silicon Photovoltaic Cells, Whether or Not Assembled Into Modules, from Thailand,” dated concurrently with, and hereby adopted by, this notice (Issues and Decision Memorandum).

Scope of the Investigation

The products covered by this investigation are solar cells from Thailand. For a complete description of the scope of this investigation, see Appendix I.

Scope Comments

During the course of this investigation, Commerce received scope comments from parties. Commerce issued a Preliminary Scope Decision Memorandum to address these comments and set aside a period of time for parties to address scope issues in scope-specific case and rebuttal briefs.⁶

⁶ See Memorandum, “Crystalline Silicon Photovoltaic Cells, Whether or Not Assembled into Modules, from Cambodia, Malaysia, and Thailand: Preliminary Scope Decision Memorandum,” dated November 27, 2024 (Preliminary Scope Decision Memorandum).

We received comments from parties on the Preliminary Scope Decision Memorandum, which we addressed in the Final Scope Decision Memorandum.⁷ We made no changes to the scope of the investigation from the scope published in the Preliminary Determination, as provided in Appendix I to this notice.

⁷ See Memorandum, “Crystalline Silicon Photovoltaic Cells, Whether or Not Assembled into Modules, from Cambodia, Malaysia, Thailand, and the Socialist Republic of Vietnam: Final Scope Decision Memorandum,” dated concurrently with this notice (Final Scope Decision Memorandum).

Verification

Commerce conducted verification of the information relied upon in making its final determination in this investigation, in accordance with section 782(i) of the Tariff Act of 1930, as amended (the Act). Specifically, Commerce conducted on-site verifications of the sales and cost information submitted by TTL.⁸ We used standard verification procedures, including an examination of relevant sales and accounting records, and original source documents provided by TTL.

⁸ See Memorandum, “Verification of the Cost Response of Trina Solar Science & Technology (Thailand) Ltd. in the Less Than Fair Value Investigation of Crystalline Silicon Photovoltaic Cells, Whether or Not Assembled into Modules, from Thailand,” dated March 6, 2025 and Memorandum, “Verification of the Sales Response of Trina Solar Science & Technology (Thailand) Ltd.'s U.S. Affiliate, Trina Solar (U.S.), Inc., in the Less-Than-Fair-Value Investigation of Crystalline Silicon Photovoltaic Cells, Whether or Not Assembled into Modules, from Thailand,” February 28, 2025.

Final Affirmative Determination of Critical Circumstances

Commerce preliminarily determined, in accordance with section 733(e)(1) of the Act, and 19 CFR 351.206, that critical circumstances exist with respect to imports of solar cells from Thailand for the mandatory respondent, Trina Solar Science & Technology (Thailand) Ltd. (TTL). Commerce also preliminarily determined that critical circumstances exist for all other exporters and producers of solar cells as well as for Sunshine Electrical Energy (Sunshine Electrical) and Taihua New Energy (Thailand) Co. Ltd (Taihua New Energy). For the final determination, pursuant to sections 735(a)(3)(A) and (B) of the Act and 19 CFR 351.206, we continue to find that critical circumstances exist for these companies. Based on our analysis of comments received regarding our affirmative preliminary critical circumstances determination,⁹ Commerce continues to find that critical circumstances exist with respect to imports of solar cells from Thailand for these companies and all other exporters and producers of solar cells. For a full description of the methodology and results of Commerce's critical circumstances analysis, see the Issues and Decision Memorandum.

⁹ See Preliminary Determination PDM at 6.

Analysis of Comments Received

All issues raised in the case and rebuttal briefs submitted by interested parties in this investigation are addressed in the Issues and Decision Memorandum. A list of the issues addressed in the Issues and Decision Memorandum is attached to this notice as Appendix II.

Changes Since the Preliminary Determination

We made certain changes regarding TTL's cost of production and sales data pursuant to our verification findings and post-preliminary finding of a particular market situation. For a discussion of these changes, see the Issues and Decision Memorandum.

Use of Adverse Facts Available

As discussed in the Preliminary Determination, Commerce assigned an estimated weighted-average dumping margin on the basis of adverse facts available (AFA), pursuant to sections 776(a) and (b) of the Act, to the two companies (i.e., Sunshine Electrical Energy and Taihua New Energy (Thailand) Co. Ltd.) that were unresponsive to the quantity and value questionnaire.¹⁰ There is no new information on the record that would cause us to revisit our decision in the Preliminary Determination. Accordingly, for the reasons explained in the Preliminary Determination, and consistent with Commerce's practice, as AFA, we assigned the highest non-aberrational individual transaction-specific margin on the record to Sunshine Electrical Energy and Taihua New Energy (Thailand) Co. Ltd.¹¹

¹⁰ See Preliminary Determination, 89 FR 92615.

¹¹ See Memorandum, “Decision Memorandum for the Preliminary Affirmative Determination in the Less-Than-Fair-Value Investigation of Crystalline Silicon Photovoltaic Cells, Whether or Not Assembled into Modules, from Thailand,” dated November 27, 2024 (Preliminary Decision Memorandum) at “Application of Facts Available and Use of Adverse Inferences.”

All-Others Rate

Sections 733(d)(1)(A)(ii) and 735(c)(5)(A) of the Act provide that, in the preliminary determination, Commerce shall determine an estimated all-others rate for all other exporters and producers not individually examined. This rate shall be an amount equal to the weighted average of the estimated weighted-average dumping margins established for exporters and producers individually examined, excluding rates that are zero, de minimis, or determined entirely under section 776 of the Act.

In this investigation, Commerce calculated an individual estimated weighted-average dumping margin for TTL, the only individually examined exporter/producer in this investigation. Because the only individually calculated dumping margin is not zero, de minimis, or based entirely on facts otherwise available, the estimated weighted-average dumping margin calculated for TTL is the margin assigned to all other producers and exporters, pursuant to section 735(c)(5)(A) of the Act. In the Preliminary Determination, Commerce determined the rates for Sunshine Electrical and Taihua New Energy entirely under facts available with an adverse inference.¹² We received no comments on our findings with respect to Sunshine Electrical and Taihua New Energy. Accordingly, we continue to determine the rates for Sunshine Electrical and Taihua New Energy entirely under facts available with an adverse inference.¹³

¹² Id.

¹³ See Memorandum, “Final Determination Analysis Memorandum for Trina Solar Science & Technology (Thailand) Ltd.,” dated concurrently with this notice.

Final Determination

Commerce determines that the following estimated weighted-average dumping margins exist:

Exporter/producer | Weighted-average dumping margin (percent) | Cash deposit rate (adjusted for subsidy offset(s)) (percent)
Trina Solar Science & Technology (Thailand) Ltd | 111.45 | 111.45
Sunshine Electrical Energy | * 202.90 | 172.68
Taihua New Energy (Thailand) Co. Ltd | * 202.90 | 172.68
All Others | 111.45 | 111.45
* Rates based on facts available with adverse inferences.

Disclosure

Commerce intends to disclose the calculations performed in connection with this final determination to interested parties within five days of any public announcement or, if there is no public announcement, within five days of the date of publication of this notice in the Federal Register, in accordance with 19 CFR 351.224(b).

Continuation of Suspension of Liquidation

In accordance with section 735(c)(4) of the Act, we will instruct U.S. Customs and Border Protection (CBP) to continue to suspend liquidation of subject merchandise, as described in Appendix I to this notice from: (1) TTL, (2) exporters and/or producers subject to the all others rate, (3) Sunshine Electrical Energy, and (4) Taihua New Energy (Thailand) Co. Ltd. that are entered, or withdrawn from warehouse, for consumption, on or after September 5, 2024, which is 90 days prior to the date of publication of the affirmative Preliminary Determination in the Federal Register. These suspension of liquidation instructions will remain in effect until further notice.

Pursuant to section 735(c)(1)(B)(ii) of the Act and 19 CFR 351.210(d), upon the publication of this notice, we will instruct CBP to require a cash deposit for estimated antidumping duties for such entries as follows: (1) the cash deposit rate for the respondents listed in the table above is the company-specific estimated weighted-average dumping margins listed for the respondents in the table; (2) if the exporter is not a respondent listed in the table above, but the producer is, then the cash deposit rate is the company-specific estimated weighted-average dumping margins listed for the producer of the subject merchandise in the table above; and (3) the cash deposit rate for all other producers and exporters is the all-others estimated weighted-average dumping margins listed in the table above.

Commerce normally adjusts cash deposits for estimated antidumping duties by the amount of export subsidies in a companion countervailing duty (CVD) proceeding, when CVD provisional measures are in effect. However, provisional measures in the companion CVD proceeding are no longer in effect and suspension of liquidation was discontinued. Therefore, we will instruct CBP to collect cash deposits based upon the estimated weighted-average dumping margin shown in the “Final Determination” section above, unadjusted for CVD export subsidies.¹⁴

¹⁴ See section 703(d) of the Act, which states that the provisional measures may not be in effect for more than four months, which in the companion CVD case is 120 days after the publication of the preliminary determination, or February 1, 2025. See CBP Message 5031407, “Discontinuation of suspension of liquidation in the countervailing duty investigation of Crystalline Silicon Photovoltaic Cells, Whether or Not Assembled not Modules from Thailand (C-549-852), dated January 31, 2025.

U.S. International Trade Commission Notification

In accordance with section 735(d) of the Act, Commerce will notify the U.S. International Trade Commission (ITC) of its final affirmative determination of sales at LTFV. Because Commerce's final determination is affirmative, in accordance with section 735(b)(2) of the Act, the ITC will make its final determination as to whether the domestic industry in the United States is materially injured, or threatened with material injury, by reason of imports or sales (or the likelihood of sales) for importation of solar cells no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order

This notice serves as the final reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This final determination and notice are issued and published in accordance with sections 735(d) and 777(i) of the Act and 19 CFR 351.210(c).

Dated: April 18, 2025.
Christopher Abbott,
Deputy Assistant Secretary for Policy and Negotiations, performing the non-exclusive functions and duties of the Assistant Secretary for Enforcement and Compliance.

Appendix I

Scope of the Investigation

The merchandise covered by this investigation is crystalline silicon photovoltaic cells, and modules, laminates, and panels, consisting of crystalline silicon photovoltaic cells, whether or not partially or fully assembled into other products, including, but not limited to, modules, laminates, panels and building integrated materials.

This investigation covers crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the investigations.

Excluded from the scope of the investigation are thin film photovoltaic products produced from amorphous silicon (a-Si), cadmium telluride (CdTe), or copper indium gallium selenide (CIGS).

Also excluded from the scope of the investigation are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the investigation are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the investigation are:

1. Off grid CSPV panels in rigid form with a glass cover, with the following characteristics: (A) a total power output of 100 watts or less per panel; (B) a maximum surface area of 8,000 cm² per panel; (C) do not include a built-in inverter; (D) must include a permanently connected wire that terminates in either an 8 mm male barrel connector, or a two-port rectangular connector with two pins in square housings of different colors; (E) must include visible parallel grid collector metallic wire lines every 1-4 millimeters across each solar cell; and (F) must be in individual retail packaging (for purposes of this provision, retail packaging typically includes graphics, the product name, its description and/or features, and foam for transport); and

2. Off grid CSPV panels without a glass cover, with the following characteristics: (A) a total power output of 100 watts or less per panel; (B) a maximum surface area of 8,000 cm² per panel; (C) do not include a built-in inverter; (D) must include visible parallel grid collector metallic wire lines every 1-4 millimeters across each solar cell; and (E) each panel is (1) permanently integrated into a consumer good; (2) encased in a laminated material without stitching, or (3) has all of the following characteristics: (i) the panel is encased in sewn fabric with visible stitching, (ii) includes a mesh zippered storage pocket, and (iii) includes a permanently attached wire that terminates in a female USB-A connector.

In addition, the following CSPV panels are excluded from the scope of the investigation: off-grid CSPV panels in rigid form with a glass cover, with each of the following physical characteristics, whether or not assembled into a fully completed off-grid hydropanel whose function is conversion of water vapor into liquid water: (A) a total power output of no more than 80 watts per panel; (B) a surface area of less than 5,000 square centimeters (cm²) per panel; (C) do not include a built-in inverter; (D) do not have a frame around the edges of the panel; (E) include a clear glass back panel; and (F) must include a permanently connected wire that terminates in a twoport rectangular connector.

Additionally excluded from the scope of this investigation are off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8 mm diameter male barrel connector.

Also excluded from the scope of this investigation are off-grid crystalline silicon photovoltaic panels in rigid form with a glass cover, with each of the following physical characteristics, whether or not assembled into a fully completed off-grid hydropanel whose function is conversion of water vapor into liquid water: (A) a total power output of no more than 180 watts per panel at 155 degrees Celsius; (B) a surface area of less than 16,000 square centimeters (cm²) per panel; (C) include a keep-out area of approximately 1,200 cm² around the edges of the panel that does not contain solar cells; (D) do not include a built-in inverter; (E) do not have a frame around the edges of the panel; (F) include a clear glass back panel; (G) must include a permanently connected wire that terminates in a two-port rounded rectangular, sealed connector; (H) include a thermistor installed into the permanently connected wire before the twoport connector; and (I) include exposed positive and negative terminals at opposite ends of the panel, not enclosed in a junction box.

Further excluded from the scope of the investigation are:

1. Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

2. Off-grid small portable crystalline silicon photovoltaic panels, with or without a glass cover, with the following characteristics: (A) a total power output of 200 watts or less per panel, (B) a maximum surface area of 16,000 cm² per panel, (C) no built-in inverter, (D) an integrated handle or a handle attached to the package for ease of carry, (E) one or more integrated kickstands for easy installation or angle adjustment, and (F) a wire either permanently connected or attached to the package terminates in waterproof connector with a cylindrical positive electrode and a rectangular negative electrode with the positive and negative electrodes having an interlocking structure.

Also excluded from the scope of the investigation are:

1. Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

2. Small off-grid panels with glass cover, with the following characteristics: (A) surface area from 3,450 mm² to 33,782 mm², (B) with one black wire and one red wire (each of type 22AWG or 28 AWG not more than 350 mm in length when measured from panel extrusion), (C) not exceeding 10 volts, (D) not exceeding 1.1 amps, (E) not exceeding 6 watts, and (F) for the purposes of this exclusion, no panel shall contain an internal battery or external computer peripheral ports.

Additionally excluded from the scope of the investigation are:

1. Off grid rigid CSPV panels with a glass cover, with the following characteristics: (A) a total power output of 175 watts or less per panel, (B) a maximum surface area of 9,000 cm² per panel, (C) do not include a built-in inverter, (D) must include a permanently connected wire that terminates in waterproof connector with a cylindrical positive electrode and a rectangular negative electrode with the positive and negative electrodes having an interlocking structure; (E) must include visible parallel grid collector metallic wire lines every 1-4 millimeters across each solar cell, and (F) must be in individual retail packaging (for purposes of this provision, retail packaging typically includes graphics, the product name, its description and/or features); and

2. Off grid CSPV panels without a glass cover, with the following characteristics, (A) a total power output of 220 watts or less per panel, (B) a maximum surface area of 16,000 cm² per panel, (C) do not include a built-in inverter, (D) must include visible parallel grid collector metallic wire lines every 1-4 millimeters across each solar cell, and (E) each panel is encased in a laminated material without stitching.

Also excluded from the scope of this investigation are off-grid CSPV panels in rigid form, with or without a glass cover, permanently attached to an aluminum extrusion that is an integral component of an automation device that controls natural light, whether or not assembled into a fully completed automation device that controls natural light, with the following characteristics:

1. a total power output of 20 watts or less per panel;

2. a maximum surface area of 1,000 cm² per panel;

3. does not include a built-in inverter for powering third party devices.

Modules, laminates, and panels produced in a third-country from cells produced in a subject country are covered by the investigations; however, modules, laminates, and panels produced in a subject country from cells produced in a third-country are not covered by the investigations.

Also excluded from the scope of this investigation are all products covered by the scope of the antidumping and countervailing duty orders on Crystalline Silicon Photovoltaic Cells, Whether or Not Assembled into Modules, from the People's Republic of China: Amended Final Determination of Sales at Less Than Fair Value, and Antidumping Duty Order, 77 FR 73018 (December 7, 2012); and Crystalline Silicon Photovoltaic Cells, Whether or Not Assembled into Modules, from the People's Republic of China: Countervailing Duty Order, 77 FR 73017 (December 7, 2012).

Merchandise covered by the investigation is currently classified in the Harmonized Tariff System of the United States (HTSUS) under subheadings 8541.42.0010 and 8541.43.0010. Imports of the subject merchandise may enter under HTSUS subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, and 8507.20.8091. These HTSUS subheadings are provided for convenience and customs purposes; the written description of the scope of the investigations is dispositive.

Appendix II

List of Topics Discussed in the Issues and Decision Memorandum

I. Summary

II. Background

III. Changes Since the Preliminary Determination

IV. Adjustments to Cash Deposit Rates for Export Subsidies

V. Discussion of the Issues

Comment 1: Whether Commerce Should Adjust TTL's Costs in Accordance with Issues Raised in its Cost Verification Report

Comment 2: Whether Commerce Should Have Selected Two Mandatory Respondents

Comment 3: Whether Commerce Should Use Financial Ratios Derived from Risen Solar to Calculate TTL's Constructed Value Profit and Selling Expenses

Comment 4: Whether Commerce Should Adjust TTL's Antidumping Duty Margin To Account for Subsidies Countervailed

Comment 5: Whether the Final Determination Should Continue to Base the “All Others” Weighted-Average Dumping Margin on TTL's Rate

Comment 6: Whether Commerce Should Render A Negative Critical Circumstances Determination

Comment 7: Whether Commerce Should Adjust Its Major Input and Transactions Disregarded Rules Analyses

Comment 8: Whether Commerce Should Find the Existence of a Particular Market Situation Affecting Solar Inputs

Comment 9: Whether Commerce Should Adjust TTL's Reported Costs to Address the Particular Market Situation Affecting Solar Inputs

VI. Recommendation

[FR Doc. 2025-07137 Filed 4-24-25; 8:45 am]

BILLING CODE 3510-DS-P